DEPARTMENT OF TRANSPORTATION

Federal Aviation Administration

14 CFR Part 71

[Docket No. FAA-2023-2423 Airspace Docket No. 23-ANM-63]

RIN 2120-AA66

Modification of Class D and E Airspace; Bozeman Yellowstone International Airport, Bozeman, MT

AGENCY: Federal Aviation Administration (FAA), DOT.

ACTION: Notice of proposed rulemaking (NPRM).

SUMMARY: This action proposes to modify the Class D surface area airspace, Class E airspace area designated as surface area, Class E airspace areas designated as an extension to a Class D or Class E surface area, and the Class E airspace area extending upward from 700 feet above the surface of the earth at Bozeman Yellowstone International Airport, Bozeman, MT. These actions would support the safety and management of visual flight rules (VFR) and instrument flight rules (IFR) operations at the airport.

DATES: Comments must be received on or before March 10, 2025.

ADDRESSES: Send comments identified by FAA Docket No. FAA-2023-2423 and Airspace Docket No. 23-ANM-63 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11J, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Nathan A. Chaffman, Federal Aviation Administration, Western Service Center, Operations Support Group, 2200 S 216th Street, Des Moines, WA 98198; telephone (206) 231-3460.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify Class D and Class E airspace to support VFR and IFR operations at Bozeman Yellowstone International Airport, Bozeman, MT.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office at the Northwest Mountain Regional Office of the Federal Aviation Administration, Air Traffic Organization, Western Service Center, Operations Support Group, 2200 S 216th Street, Des Moines, WA 98198.

Incorporation by Reference

Class D, E2, E4, and E5 airspace designations are published in paragraphs 5000, 6002, 6004, and 6005, respectively, of FAA Order JO 7400.11, Airspace Designations and Reporting Points, which is incorporated by reference in 14 CFR 71.1 on an annual basis. This document proposes to amend the current version of that order, FAA Order JO 7400.11J, dated July 31, 2024 and effective September 15, 2024. These updates would be published in the next update to FAA Order JO 7400.11. That order is publicly available as listed in the ADDRESSES section of this document.

FAA Order JO 7400.11J lists Class A, B, C, D, and E airspace areas, air traffic service routes, and reporting points.

The Proposal

The FAA is proposing an amendment to 14 CFR part 71 that would modify the Class D surface area airspace, the Class E airspace area designated as surface area, the Class E airspace areas designated as an extension to a Class D or Class E surface area, and the Class E airspace area extending upward from 700 feet above the surface of the earth at Bozeman Yellowstone International Airport, Bozeman, MT.

The radius of the Class D surface area and Class E airspace area designated as surface area should be expanded to 5.1 miles to appropriately contain departures until reaching the next adjacent airspace. The southeast extension of the Class D surface area and Class E airspace designated as surface area should be eliminated as it is no longer needed.

In addition, the Class E airspace designated as an extension to a Class D or Class E surface area northwest of the airport should be lengthened by .8 miles and widened by one mile to better contain arriving IFR aircraft on the Very High Frequency Omnidirectional Range (VOR) Runway (RWY) 12 approach while below 1,000 feet above the surface.

Finally, the central radius of the Class E airspace extending upward from 700 feet above the surface should be expanded to 7.2 miles to better contain IFR aircraft departing on the BOZEMAN SIX DEPARTURE (OBSTACLE) until reaching 1,200 feet above the surface. The southeast extension centered on the 131° bearing should be lengthened and realigned to the 136° bearing to better contain departing IFR aircraft on the BOBKT FIVE DEPARTURE (Area Navigation [RNAV]) until reaching 1,200 feet above the surface and IFR arrivals on the RNAV (Required Navigation Performance [RNP]) Z RWY 30 approach below 1,500 feet above the surface. The southeast extension centered on the 155° bearing should be expanded by .7 miles, shortened by .1 miles, and realigned to the 165° bearing to better contain IFR departures until reaching 1,200 feet above the surface and IFR arrivals on the RNAV (RNP) Z RWY 30 approach below 1,500 feet above the surface. The northwest extension should be widened .6 miles and shortened 1 mile to 4.2 miles on either side of the 316° bearing, extending from the 7.2-mile radius to 14.7 miles northwest of the airport to contain the hold-in-lieu of pattern for the Instrument landing System (ILS) Localizer (LOC) RWY 12 arrival procedure for IFR aircraft descending below 1,500 feet above the surface.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f); 40103, 40113, 40120; E.O. 10854, 24 FR 9565, 3 CFR, 1959-1963 Comp., p. 389.

§ 71.1 [Amended]

2. The incorporation by reference in 14 CFR 71.1 of FAA Order JO 7400.11J, Airspace Designations and Reporting Points, dated July 31, 2024, and effective September 15, 2024, is amended as follows:

Paragraph 5000 Class D Airspace.

* * * * *

ANM MT D Bozeman, MT [Amended]

Bozeman Yellowstone International Airport, MT

(Lat. 45°46′38″ N, long. 111°09′01″ W)

That airspace extending upward from the surface to and including 7,000 feet MSL within a 5.1-mile radius of the airport. This Class D airspace area is effective during the specific dates and times established in advance by a Notice to Air Missions. The effective date and time will thereafter be continuously published in the Chart Supplement.

* * * * *

Paragraph 6002 Airspace Areas Designated as Surface Area.

* * * * *

ANM MT E2 Bozeman, MT [Amended]

Bozeman Yellowstone International Airport, MT

(Lat. 45°46′38″ N, long. 111°09′01″ W)

That airspace extending upward from the surface within a 5.1-mile radius of the airport. This Class E airspace area is effective during the specific dates and times established in advance by a Notice to Air Missions. The effective date and time will thereafter be continuously published in the Chart Supplement.

* * * * *

Paragraph 6004 Airspace Areas Designated as an Extension to a Class D or Class E Surface Area.

* * * * *

ANM MT E4 Bozeman, MT [Amended]

Bozeman Yellowstone International Airport, MT

(Lat. 45°46′38″ N, long. 111°09′01″ W)

That airspace extending upward from the surface within 4.1 miles southwest and 3.7 miles northeast of the airport's 316° bearing extending from its 5.1-mile radius to 14.5 miles northwest of the airport.

* * * * *

Paragraph 6005 Class E Airspace Areas Extending Upward From 700 Feet or More Above the Surface of the Earth.

ANM MT E5 Bozeman, MT [Amended]

Bozeman Yellowstone International Airport, MT

(Lat. 45°46′38″ N, long. 111°09′01″ W)

That airspace extending upward from 700 feet above the surface within a 7.2-mile radius from the airport, and within 2 miles northeast and 1.3 miles southwest of the airport's 136° bearing extending from its 7.2-mile radius to 14.8 miles southeast of the airport, and within 4.3 miles east and 2 miles west of the airport's 165° bearing extending from its 7.2-mile radius to 10.5 miles south of the airport, and within 4.2 miles either side of the airport's 316° bearing extending from its 7.2-mile radius to 14.7 miles northwest of the airport.

* * * * *

Issued in Washington, DC, on January 15, 2025.
B.G. Chew,
Group Manager, Operations Support Group, Western Service Center.

[FR Doc. 2025-01445 Filed 1-22-25; 8:45 am]

BILLING CODE 4910-13-P